DEPARTMENT OF EDUCATION

Applications for New Awards; Native American Career and Technical Education Program

AGENCY: Office of Career, Technical, and Adult Education, Department of Education.

ACTION: Notice.

SUMMARY: The Department of Education (Department) is issuing a notice inviting applications for new awards for fiscal year (FY) 2018 for the Native American Career and Technical Education Program (NACTEP), Catalog of Federal Domestic Assistance (CFDA) number 84.101A.

DATES:

Applications Available: February 5, 2018.

Deadline for Transmittal of Applications: March 19, 2018.

FOR FURTHER INFORMATION CONTACT: Gwen Washington, U.S. Department of Education, 400 Maryland Avenue SW, Room 11076, Potomac Center Plaza, Washington, DC 20202-7241. Telephone: (202) 245-7790 or by fax at (202) 245-7170. Or Linda Mayo, U.S. Department of Education, 400 Maryland Avenue SW, Room 11075, Potomac Center Plaza, Washington, DC 20202-7241. Telephone: (202) 245-7792. Fax: (202) 245-7170.

If you use a telecommunications device for the deaf (TDD) or a text telephone (TTY), call the Federal Relay Service (FRS), toll-free, at 1-800-877-8339.

SUPPLEMENTARY INFORMATION:

Full Text of Announcement

I. Funding Opportunity Description

Purpose of Program: NACTEP provides grants to improve career and technical education (CTE) programs that are consistent with the purposes of the Carl D. Perkins Career and Technical Education Act of 2006 (the Act) and that benefit Native Americans and Alaska Natives.

Background: This notice invites applications for a NACTEP competition that implements section 116 of the Act, enacted August 12, 2006. Section 116 of the Act authorizes the Secretary to award grants to, or enter into cooperative agreements or contracts with, Indian Tribes, Tribal organizations, and Alaska Native entities to operate CTE projects that improve CTE for Native American and Alaska Native students.

Under section 116 of the Act, Bureau-funded schools (as defined in this notice) proposing to fund secondary programs are not eligible to receive an award directly from the Secretary. However, an Indian Tribe, Tribal organization, Alaska Native entity, or Bureau-funded school may use its award to assist a secondary school operated or supported by the U.S. Department of the Interior to carry out CTE programs. A Bureau-funded school that is not proposing a secondary program is eligible for assistance under NACTEP.

Priority: Under this competition we are particularly interested in applications that address the following priority.

Invitational Priority: For FY 2018 and any subsequent year in which we make awards from the list of unfunded applications from this competition, this priority is an invitational priority. Under 34 CFR 75.105(c)(1) we do not give an application that meets this invitational priority a competitive or absolute preference over other applications.

This priority is:

Creating or Expanding Opportunities for Individuals To Obtain Recognized Postsecondary Credentials in Science, Technology, Engineering, Mathematics, or Computer Science

For the purposes of this invitational priority, computer science means the study of computers and algorithmic processes and includes the study of computing principles and theories, computational thinking, computer hardware, software design, coding, analytics, and computer applications.

Computer science includes computer programming or coding as a tool to create software, including applications, games, websites, and tools to manage or manipulate data; or development and management of computer hardware and the other electronics related to sharing, securing, and using digital information.

In addition to coding, the expanding field of computer science also includes computational thinking and interdisciplinary problem-solving to equip students with the skills and abilities necessary to apply computation in our digital world.

Computer science does not include using a computer for everyday activities, such as browsing the internet; use of tools like word processing, spreadsheets, or presentation software; or using computers in the study and exploration of unrelated subjects.

Requirements: These application and program requirements are from the notice of final requirements, definitions, and selection criteria for this program (Notice of Final Requirements), published in the Federal Register on February 26, 2013 (78 FR 12955), unless a specific statutory citation for the requirement is provided.

The application requirements are:

(1) An eligible applicant (as determined by the Act) must include documentation in its application showing that it and, if appropriate, its consortium members are eligible to apply.

As defined in the Indian Self-Determination and Education Assistance Act (ISDEAA) (25 U.S.C. 5304(l)), the term “Tribal organization” means the recognized governing body of any Indian Tribe; any legally established organization of Indians which is controlled, sanctioned, or chartered by such governing body or which is democratically elected by the adult members of the Indian community to be served by such organization and which includes the maximum participation of Indians in all phases of its activities: Provided, That in any case where a contract is let or grant made to an organization to perform services benefiting more than one Indian Tribe, the approval of each such Indian Tribe shall be a prerequisite to the letting or making of such contract or grant. In accordance with this statutory definition, any Tribal organization proposing to provide NACTEP services for the benefit of more than one Indian Tribe must first obtain the approval of each Indian Tribe it proposes to serve and must submit documentation of such approval with its NACTEP application and that documentation of Tribal approval is a prerequisite to the awarding of a NACTEP grant to any Tribal organization proposing to serve more than one Indian Tribe.

(2) An applicant that is not proposing to provide CTE directly to its students and proposes instead to use NACTEP funds to pay one or more qualified educational entities to provide education to its students must include with its application a written CTE agreement between the applicant and that entity. The written agreement must describe the commitment between the applicant and each educational entity and must include, at a minimum, a statement of the responsibilities of the applicant and the entity. The agreement must be signed by the appropriate individuals on behalf of each party, such as the authorizing official or president of a Tribe or Tribal organization, a college president, or a college dean.

The program requirements are:

Requirement 1—Authorized Programs

(a) Section 116(e) of the Act requires the Secretary to ensure that activities funded under NACTEP “will improve career and technical education programs” (20 U.S.C. 2326(e)). Therefore, under NACTEP the Assistant Secretary will award grants to carry out projects that—

(1) Propose organized educational activities offering a sequence of courses that—

(i) Provide individuals with coherent and rigorous content aligned with challenging academic standards and relevant technical knowledge and skills needed to prepare for further education and careers in current or emerging professions;

(ii) Provide technical skill proficiency, an industry-recognized credential, a certificate, or an associate degree; and

(iii) Include competency-based applied learning that contributes to the academic knowledge, higher-order reasoning and problem-solving skills, work attitudes, general employability skills, technical skills, and occupation-specific skills, and knowledge of all aspects of an industry, including entrepreneurship, of an individual. Projects may include prerequisite courses (other than remedial courses) that meet the definitional requirements of section 3(5) of the Act. (20 U.S.C. 2302(5)). In addition, at the secondary level, coherent and rigorous academic curriculum must be aligned with challenging academic content standards and student academic achievement standards in reading or language arts and in mathematics that the State in which the applicant is located has established under the Elementary and Secondary Education Act of 1965 (ESEA). Contacts for State ESEA programs may be found on the internet at: www.ed.gov/about/contacts/state/index.html.

(2) Develop new programs, services, or activities or improve or expand existing programs, services, or activities that are consistent with the purposes of the Act. In other words, the Department will support “expansions” or “improvements” that include, but are not limited to, the expansion of effective programs or practices; upgrading of activities, equipment, or materials; increasing staff capacity; adoption of new technology; modification of curriculum; or implementation of new policies to improve program effectiveness and outcomes.

(3) Fund a CTE program, service, or activity that—

(i) Is a new program, service, or activity that was not provided by the applicant during the instructional term (a defined period, such as a semester, trimester, or quarter, within the academic year) that preceded the request for funding under NACTEP;

(ii) Will improve or expand an existing CTE program; or

(iii) Inherently improves CTE.

Note: A program, service, or activity “inherently improves CTE” if it—

(a) Develops new CTE programs of study that will be approved by the appropriate accreditation agency;

(b) Strengthens the rigor of the academic and career and technical components of funded programs;

(c) Uses curriculum that is aligned with industry-recognized standards and will result in students attaining industry-recognized credentials, certificates, or degrees;

(d) Integrates academics (other than remedial courses) with CTE programs through a coherent sequence of courses to ensure learning in the core academic and career and technical subjects;

(e) Links CTE at the secondary level with CTE at the postsecondary level and facilitates students' pursuit of a baccalaureate degree;

(f) Expands the scope, depth, and relevance of curriculum, especially content that provides students with a comprehensive understanding of all aspects of an industry and a variety of hands-on, job-specific experiences; and

(g) Offers—

(1) Work-related experience, internships, cooperative education, school-based enterprises, entrepreneurship, community service learning, and job shadowing that are related to CTE programs;

(2) Coaching/mentoring, support services, and extra help for students after school, on weekends, and/or during the summers, so they can meet higher standards;

(3) Career guidance and academic counseling for students participating in CTE programs;

(4) Placement services for students who have successfully completed CTE programs and attained a technical skill proficiency that is aligned with industry-recognized standards;

(5) Professional development programs for teachers, counselors, and administrators;

(6) Strong partnerships among grantees and local educational agencies, postsecondary institutions, community leaders, adult education providers, and, as appropriate, other entities, such as employers, labor organizations, parents, and local partnerships, to enable students to achieve State academic standards and career and technical skills;

(7) The use of student assessment and evaluation data to improve continually instruction and staff development with the goal of increasing student achievement in CTE programs; or

(8) Research, development, demonstration, dissemination, evaluation and assessment, capacity-building, and technical assistance, related to CTE programs.

(b) Assistance to Bureau-funded secondary schools. An Indian Tribe, a Tribal organization, or an Alaska Native entity that receives funds through a NACTEP grant or contract may use the funds to provide assistance to a secondary school operated or supported by the U.S. Department of the Interior to enable such school to carry out CTE programs. (Section 116(b)(3) of the Act)

Requirement 2—Evaluation

To help ensure the high quality of NACTEP projects and the achievement of the goals and purposes of section 116 of the Act, each grantee must budget for and conduct an ongoing evaluation of the effectiveness of its NACTEP project. An independent evaluator must conduct the evaluation. The evaluation must be appropriate for the project and be both formative and summative in nature.

Requirement 3—Student Stipends

In accordance with section 116(c)(2) of the Act, a portion of an award under this program may be used to provide stipends (as defined in the Definitions section of this notice) to one or more students to help meet the students' costs of participation in a NACTEP project. A grantee must apply the following procedures for determining student eligibility for stipends and appropriate amounts to be awarded as stipends:

(1) To be eligible for a stipend a student must—

(i) Be enrolled in a CTE project funded under this program;

(ii) Be in regular attendance in a NACTEP project and meet the training institution's attendance requirement;

(iii) Maintain satisfactory progress in his or her program of study according to the training institution's published standards for satisfactory progress; and

(iv) Have an acute economic need that—

(A) Prevents participation in a project funded under this program without a stipend; and

(B) Cannot be met through a work-study program.

(2) The amount of a stipend is the greater of either the minimum hourly wage prescribed by State or local law or the minimum hourly wage established under the Fair Labor Standards Act.

(3) A grantee may only award a stipend if the stipend combined with other resources the student receives does not exceed the student's financial need. A student's financial need is the difference between the student's cost of attendance and the financial aid or other resources available to defray the student's cost of participating in a NACTEP project.

(4) To calculate the amount of a student's stipend, a grantee would multiply the number of hours a student actually attends CTE instruction by the amount of the minimum hourly wage that is prescribed by State or local law, or by the minimum hourly wage that is established under the Fair Labor Standards Act.

Example: If a grantee uses the Fair Labor Standards Act minimum hourly wage of $7.25 and a student attends classes for 20 hours a week, the student's stipend would be $145 for the week during which the student attends classes ($7.25 × 20 = $145.00).

Note: In accordance with applicable Department statutory requirements and administrative regulations, grantees must maintain records that fully support their decisions to award stipends and the amounts that are paid, such as proof of a student's enrollment in a NACTEP project, stipend applications, timesheets showing the number of attendance hours confirmed in writing by an instructor, student financial status information, and evidence that a student would not be able to participate in the NACTEP project without a stipend. (20 U.S.C. 1232f; 34 CFR 75.700-75.702; 75.730; and 75.731)

(5) An eligible student may receive a stipend when taking a course for the first time. However, generally a stipend may not be provided to a student who has already taken, completed, and had the opportunity to benefit from a course and is merely repeating the course.

(6) An applicant must include in its application the procedure it intends to use to determine student eligibility for stipends and stipend amounts, and its oversight procedures for the awarding and payment of stipends.

Requirement 4—Direct Assistance to Students

A grantee may provide direct assistance to students if the following conditions are met:

(1) The recipient of the direct assistance is an individual who is a member of a special population and who is participating in the grantee's NACTEP project.

(2) The direct assistance is needed to address barriers to the individual's successful participation in that project.

(3) The direct assistance is part of a broader, more generally focused program or activity to address the needs of an individual who is a member of a special population.

Note: Direct assistance to individuals who are members of special populations is not, by itself, a “program or activity for special populations.”

(4) The grant funds used for direct assistance must be expended to supplement, and not supplant, assistance that is otherwise available from non-Federal sources. (20 U.S.C. 2391(a)). For example, generally, a postsecondary educational institution could not use NACTEP funds to provide child care for single parents if non-Federal funds previously were made available for this purpose, or if non-Federal funds are used to provide child care services for single parents participating in non-CTE programs and these services otherwise would have been available to CTE students in the absence of NACTEP funds.

(5) In determining how much of the NACTEP grant funds it will use for direct assistance to an eligible student, a grantee must consider whether the specific services to be provided are a reasonable and necessary cost of providing CTE programs for special populations. However, the Assistant Secretary does not envision a circumstance in which it would be a reasonable and necessary expenditure of NACTEP project funds for a grantee to use a majority of a project's budget to pay direct assistance to students, in lieu of providing the students served by the project with CTE.

Requirement 5—Appeal Process

Any applicant denied funding under this NACTEP competition may request a hearing to review the Secretary's decision not to make the award. The Secretary will implement the appeal process in accordance with the procedures set forth in 34 CFR 401.23. In accordance with those procedures, any applicant denied funding will have 30 calendar days to make a written request to the Secretary for a hearing to review the Secretary's decision. (25 U.S.C. 5321(b)).

Requirement 6—Integration of Services

Section 116(f) of the Act provides that a Tribe, Tribal organization, or Alaska Native entity receiving financial assistance under this program may integrate those funds with assistance received from related programs in accordance with the provisions of Public Law 102-477, the Indian Employment, Training and Related Services Demonstration Act of 1992 (25 U.S.C. 3401 et seq.). An entity wishing to integrate funds must have a plan that meets the requirements of the Indian Employment, Training and Related Services Demonstration Act and is acceptable to the Secretary of the Interior and the Secretary of Education.

For further information on the integration of grant funds under this and related programs contact Terrence Parks, the Division of Workforce Development, Office of Indian Services, Bureau of Indian Affairs, U.S. Department of the Interior, 1951 Constitution Avenue NW, Mailstop 20 SIB, Washington, DC 20245. Telephone: (202) 513-7625. Email: Terrence.parks@bia.gov. Fax: (202) 208-4564.

Requirement 7—Indian Self-Determination Contracts

Section 116(b)(2) of the Act provides that grants or contracts awarded under section 116 of the Act are subject to the terms and conditions of section 102 of the ISDEAA (25 U.S.C. 5321) and must be conducted in accordance with the provisions of sections 4, 5, and 6 of the Act of April 16, 1934 (25 U.S.C. 5345-5347), that are relevant to the programs administered under section 116(b) of the Act. Section 102 of the ISDEAA authorizes Indian Tribes to request self-determination contracts from the Department of Interior. Accordingly, an Indian Tribe or Tribal organization that has applied to the Secretary for financial assistance under NACTEP and has been notified of its selection to be a recipient of financial assistance may submit a request to both the Secretary of Education (via the contact person listed under FOR FURTHER INFORMATION CONTACT) and the relevant Department of Interior contact person to operate its NACTEP project through a section 102 Indian self-determination contract.

After successful applicants are selected under this NACTEP competition, the Secretary will review any requests to operate a project under an Indian self-determination contract pursuant to the ISDEAA. If a request for an Indian self-determination contract is approved, the Indian Tribe or Tribal organization submitting the request will be required, to the extent possible, to operate its project in accordance with the ISDEAA, relevant provisions in sections 4, 5, and 6 of the Act of April 16, 1934 (25 U.S.C. 5345-5347), the Act, and the non-statutory program requirements specified in this notice.

The CTE programs provided through an Indian self-determination contract would have to be essentially the same as were proposed in the initial application and approved by the Department. Any Indian Tribe or Tribal organization that is selected to receive funding under this competition, but whose request to operate the project under an Indian self-determination contract is denied, may appeal the denial to the Secretary. If you have questions about ISDEAA self-determination contracts, please contact the persons listed under FOR FURTHER INFORMATION CONTACT.

Definitions: These definitions are from statute, 34 CFR 400.4, and the Notice of Final Requirements. The source of each definition is noted after the definition.

Act of April 16, 1934 means the Federal law commonly known as the “Johnson-O'Malley Act” that authorizes the Secretary of the Interior to enter into contracts for the education of Indians and other purposes. (25 U.S.C. 5345-5347)

Acute economic need means an income that is at or below the national poverty level according to the latest available data from the U.S. Department of Commerce or the U.S. Department of Health and Human Services Poverty Guidelines. (Notice of Final Requirements)

Alaska Native or Native means a citizen of the United States who is a person of one-fourth degree or more Alaska Indian (including Tsimshian Indians not enrolled in the Metlakta Indian Community ¹) Eskimo, or Aleut blood, or a combination thereof. The term includes—

¹ The correct name of this community is Metlakatla Indian Community. It is misspelled in the Alaska Native Claims Settlement Act, which is the source of this definition.

(a) Any Native, as so defined, either or both of whose adoptive parents are not Natives; and

(b) In the absence of proof of a minimum blood quantum, any citizen of the United States who is regarded as an Alaska Native by the Native village or Native group of which he or she claims to be a member and whose father or mother is (or, if deceased, was) regarded as Native by any village or group. Any decision of the Secretary of the Interior regarding eligibility for enrollment will be final. (20 U.S.C. 2326(a)(1); 43 U.S.C. 1602(b))

Alaska Native entity means an entity such as an Alaska Native village, group, or regional or village corporation. (43 U.S.C. 1601 et seq.)

Alaska Native group means any Tribe, band, clan, village, community, or village association of Natives in Alaska composed of less than twenty-five Natives, who comprise a majority of the residents of the locality. (43 U.S.C. 1602(d))

Alaska Native village means any Tribe, band, clan, group, village, community, or association in Alaska listed in sections 1610 and 1615 of the Alaska Native Claims Settlement Act, or that meets the requirements of chapter 33 of the Alaska Native Claims Settlement Act, and that the Secretary of the Interior determines was, on the 1970 census enumeration date (as shown by the census or other evidence satisfactory to the Secretary of the Interior, who shall make findings of fact in each instance), composed of twenty-five or more Natives. (43 U.S.C. 1602(c))

Alaska regional corporation means an Alaska Native regional corporation established under the laws of the State of Alaska in accordance with the provisions of chapter 33 of the Alaska Native Claims Settlement Act. (43 U.S.C. 1602(g))

Alaska village corporation means an Alaska Native village corporation organized under the laws of the State of Alaska as a business for profit or nonprofit corporation to hold, invest, manage and/or distribute lands, property, funds, and other rights and assets for and on behalf of an Alaska Native village, in accordance with the terms of chapter 33 of the Alaska Native Claims Settlement Act. (43 U.S.C. 1602(j))

Bureau means the Bureau of Indian Affairs of the U.S. Department of the Interior. (25 U.S.C. 2021(2))

Bureau-funded school means—

(a) A Bureau-operated elementary or secondary day or boarding school or Bureau-operated dormitory for students attending a school other than a Bureau school. (25 U.S.C. 2021(3) and (4));

(b) An elementary school, secondary school, or dormitory that receives financial assistance for its operation under a contract, grant, or agreement with the Bureau under section 102, 103(a), or 208 of the ISDEAA (25 U.S.C. 5321, 5322(a), or 5355) or under the Tribally Controlled Schools Act of 1988 (25 U.S.C. 2504 et seq.). (25 U.S.C. 2021(3) and (5)); or

(c) A school for which assistance is provided under the Tribally Controlled Schools Act of 1988 (25 U.S.C. 2501 et seq.). (25 U.S.C. 2021(3))

Career and technical education (CTE) means organized educational activities that—

(a) Offer a sequence of courses that—

(1) Provides individuals with coherent and rigorous content aligned with challenging academic standards and relevant technical knowledge and skills needed to prepare for further education and careers in current or emerging professions;

(2) Provides technical skills proficiency, an industry-recognized credential, a certificate, or an associate degree; and

(3) May include prerequisite courses (other than a remedial course) that meet the requirements of this definition; and

(b) Include competency-based applied learning that contributes to the academic knowledge, higher-order reasoning and problem-solving skills, work attitudes, general employability skills, technical skills, and occupation-specific skills, and knowledge of all aspects of an industry, including entrepreneurship, of the individual. (20 U.S.C. 2302(5))

Coherent sequence of courses means a series of courses in which vocational ² and academic education are integrated, and that directly relates to, and leads to, both academic and occupational competencies. The term includes competency-based education, academic education, and adult training or retraining, including sequential units encompassed within a single adult retraining course, that otherwise meet the requirements of this definition. (34 CFR 400.4)

² As a result of the passage of the Act, the term “vocational education” has been updated to “career and technical education.”

Direct assistance to students means tuition, dependent care, transportation, books, and supplies that are necessary for a student to participate in a project funded under this program. (Notice of Final Requirements)

Indian means a person who is a member of an Indian Tribe. (20 U.S.C. 2326(a)(3); 25 U.S.C. 5304(d))

Indian Tribe means any Indian Tribe, band, nation, or other organized group or community, including any Alaska Native village or regional or village corporation as defined in or established pursuant to the Alaska Native Claims Settlement Act (43 U.S.C. 1601 et seq.), that is recognized as eligible for the special programs and services provided by the United States to Indians because of their status as Indians. (20 U.S.C. 2326(a)(3); 25 U.S.C. 5304(e))

Institution of higher education means—

(a) An educational institution in any State that—

(1) Admits as regular students only persons having a certificate of graduation from a school providing secondary education, or the recognized equivalent of such a certificate;

(2) Is legally authorized within such State to provide a program of education beyond secondary education;

(3) Provides an educational program for which the institution awards a bachelor's degree or provides not less than a 2-year program that is acceptable for full credit toward such a degree, or awards a degree that is acceptable for admission to a graduate or professional degree program, subject to review and approval by the Secretary;

(4) Is a public or other nonprofit institution; and

(5) Is accredited by a nationally recognized accrediting agency or association or, if not so accredited, is an institution that has been granted pre-accreditation status by such an agency or association that has been recognized by the Secretary of Education for the granting of pre-accreditation status, and the Secretary of Education has determined that there is satisfactory assurance that the institution will meet the accreditation standards of such an agency or association within a reasonable time.

(b) The term also includes—

(1) Any school that provides not less than a 1-year program of training to prepare students for gainful employment in a recognized occupation and that meets the provisions of paragraphs (a)(1), (2), (4), and (5) of this definition.

(2) A public or nonprofit private educational institution in any State that, in lieu of the requirement in paragraph (a)(1) of this definition, admits as regular students persons who are beyond the age of compulsory school attendance in the State in which the institution is located. (20 U.S.C. 1001 and 2302(18))

Special populations means—

(a) Individuals with disabilities;

(b) Individuals from economically disadvantaged families, including foster children;

(c) Individuals preparing for nontraditional fields;

(d) Single parents, including single pregnant women;

(e) Displaced homemakers; and

(f) Individuals with limited English proficiency. (20 U.S.C. 2302(29))

Stipend means a subsistence allowance for a student that is necessary for the student to participate in a project funded under this program. (Notice of Final Requirements)

Support services means services related to curriculum modification, equipment modification, classroom modification, supportive personnel, and instructional aids and devices. (20 U.S.C. 2302(31))

Tribal organization means the recognized governing body of any Indian Tribe; any legally established organization of Indians that is controlled, sanctioned, or chartered by such governing body or that is democratically elected by the adult members of the Indian community to be served by such organization and that includes the maximum participation of Indians in all phases of its activities: Provided, That, in any case where a contract is let or grant made to an organization to perform services benefiting more than one Indian Tribe, the approval of each such Indian Tribe shall be a prerequisite to the letting or making of such contract or grant. (20 U.S.C. 2326(a)(3); 25 U.S.C. 5304(l))

Tribally controlled college or university means an institution of higher education that is formally controlled, or has been formally sanctioned, or chartered, by the governing body of an Indian Tribe or Tribes, except that no more than one such institution shall be recognized with respect to any such Tribe. (20 U.S.C. 2302(33) and 25 U.S.C. 1801(a)(4))

Program Authority: 20 U.S.C. 2301, et seq., particularly 2326(a)-(g).

Applicable Regulations: (a) The Education Department General Administrative Regulations (EDGAR) in 34 CFR parts 75, 77, 81, 82, 84, 86, 97, 98, and 99. (b) The Office of Management and Budget (OMB) Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474 including 2 CFR 3474.20. (d) The Notice of Final Requirements.

Note: The regulations in 34 CFR part 79 apply to all applicants except federally recognized Indian Tribes.

II. Award Information

Type of Award: Discretionary grants.

Estimated Available Funds: $13,764,000 for the first 12 months of the project period. Funding for years two and three is subject to the availability of funds and to a grantee meeting the requirements of 34 CFR 75.253. Contingent upon the availability of funds and the quality of applications, we may make additional awards later in FY 2018 or in subsequent years from the list of unfunded applications from this competition.

Estimated Range of Awards: $300,000 to $500,000.

Estimated Average Size of Awards: $458,800.

Estimated Number of Awards: 30.

Note: The Department is not bound by any estimates in this notice.

Project Period: Up to 36 months. The Secretary may extend the performance periods of funded NACTEP grantees for an additional two years, should Congress continue to appropriate funds under the Act.

III. Eligibility Information

1. Eligible Applicants: (a) The following entities are eligible to apply under this competition:

(1) A federally recognized Indian Tribe.

(2) A Tribal organization.

(3) An Alaska Native entity.

(4) A Bureau-funded school, except for a Bureau-funded school proposing to use its award to support secondary school CTE programs.

(b) Any Tribe, Tribal organization, Alaska Native entity, or eligible Bureau-funded school may apply individually or as part of a consortium with one or more eligible Tribes, Tribal organizations, Alaska Native entities, or eligible Bureau-funded schools. (Eligible applicants seeking to apply for funds as a consortium must meet the requirements in 34 CFR 75.127-75.129, which apply to group applications.)

2. (a) Cost Sharing or Matching: This program does not require cost sharing or matching.

(b) Supplement-Not-Supplant: This program involves supplement-not-supplant funding requirements. In accordance with section 311(a) of the Act, funds under this program may not be used to supplant non-Federal funds used to carry out CTE activities. Further, the prohibition against supplanting also means that grantees are required to use their negotiated restricted indirect cost rates under this program. (34 CFR 75.563)

We caution applicants not to plan to use funds under NACTEP to replace otherwise available non-Federal funding for direct assistance to students and family assistance programs. For example, NACTEP funds must not be used to supplant Tribal and other non-Federal funds with Federal funds in order to pay the costs of students' tuition, dependent care, transportation, books, supplies, and other costs associated with participation in a CTE program.

Funds under NACTEP should not be used to replace Federal student financial aid. The Act does not authorize the Secretary to fund projects that serve primarily as entities through which students may apply for and receive tuition and other financial assistance.

(c) Limitation on Services: Section 315 of the Act prohibits the use of funds received under the Act to provide CTE programs to students prior to the seventh grade.

IV. Application and Submission Information

1. Address to Request Application Package: Gwen Washington, U.S. Department of Education, 400 Maryland Avenue SW, Room 11076, Potomac Center Plaza, Washington, DC 20202-7241. Telephone: (202) 245-7790. Fax: (202) 245-7170. Or Linda Mayo, U.S. Department of Education, 400 Maryland Avenue SW, Room 11075, Potomac Center Plaza, Washington, DC 20202-7241. Telephone: (202) 245-7792. Fax: (202) 245-7170 or by email: NACTEPgrant@ed.gov.

You may also obtain an application package via the internet from the following address: www.ed.gov/GrantApps/.

If you use a TDD or a TTY, call the FRS, toll-free, at 1-800-877-8339.

Individuals with disabilities can obtain a copy of the application package in an accessible format (e.g., braille, large print, audiotape, or compact disc) by contacting the program contact persons listed in this section.

2. Content and Form of Application Submission: Requirements concerning the content and form of an application, together with the forms you must submit, are in the application package for this competition.

Notice of Intent to Apply: We will be able to develop a more efficient process for reviewing grant applications if we can anticipate the number of applicants that intend to apply for funding under this competition. Therefore, we strongly encourage each potential applicant to notify us of the applicant's intent to submit an application for funding by sending a short email message. This short email should provide the applicant organization's name and address. Please send this email notification to NACTEPgrant@ed.gov with “Intent to Apply” in the email subject line. Applicants that do not provide this email notification may still apply for funding.

3. Submission Dates and Times:

Applications Available: February 5, 2018.

Deadline for Transmittal of Applications: March 19, 2018.

A webinar for prospective applicants will be held for this competition shortly after this notice's publication date. The webinar is intended to provide technical assistance to all interested grant applicants. Information regarding the webinar can be found on the Perkins Collaborative Resource Network at http://cte.ed.gov/.

Applications for grants under this competition may be submitted electronically using the Grants.gov Apply site (Grants.gov), or in paper format by mail or hand delivery. For information (including dates and times) about how to submit your application electronically, or in paper format by mail, please refer to Other Submission Requirements in section IV of this notice.

We do not consider an application that does not comply with the deadline requirements.

Individuals with disabilities who need an accommodation or auxiliary aid in connection with the application process should contact the persons listed under FOR FURTHER INFORMATION CONTACT. If the Department provides an accommodation or auxiliary aid to an individual with a disability in connection with the application process, the individual's application remains subject to all other requirements and limitations in this notice.

4. Intergovernmental Review: This program is not subject to Executive Order 12372 and the regulations in 34 CFR part 79.

5. Funding Restrictions: We reference regulations outlining funding restrictions in the Applicable Regulations section of this notice.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM), the Government's primary registrant database;

c. Provide your DUNS number and TIN on your application; and

d. Maintain an active SAM registration with current information while your application is under review by the Department and, if you are awarded a grant, during the project period.

You can obtain a DUNS number from Dun and Bradstreet at the following website: http://fedgov.dnb.com/webform. A DUNS number can be created within one to two business days.

If you are a corporate entity, agency, institution, or organization, you can obtain a TIN from the Internal Revenue Service. If you are an individual, you can obtain a TIN from the Internal Revenue Service or the Social Security Administration. If you need a new TIN, please allow two to five weeks for your TIN to become active.

The SAM registration process can take approximately seven business days, but may take upwards of several weeks, depending on the completeness and accuracy of the data you enter into the SAM database. Thus, if you think you might want to apply for Federal financial assistance under a program administered by the Department, please allow sufficient time to obtain and register your DUNS number and TIN. We strongly recommend that you register early.

Note: Once your SAM registration is active, it may be 24 to 48 hours before you can access the information in, and submit an application through, Grants.gov.

If you are currently registered with SAM, you may not need to make any changes. However, please make certain that the TIN associated with your DUNS number is correct. Also note that you will need to update your registration annually. This may take three or more business days.

Information about SAM is available at www.SAM.gov. To further assist you with obtaining and registering your DUNS number and TIN in SAM or updating your existing SAM account, we have prepared a SAM.gov Tip Sheet, which you can find at: http://www2.ed.gov/fund/grant/apply/sam-faqs.html.

In addition, if you are submitting your application via Grants.gov, you must (1) be designated by your organization as an Authorized Organization Representative (AOR); and (2) register yourself with Grants.gov as an AOR. Details on these steps are outlined at the following Grants.gov web page: www.grants.gov/web/grants/register.html.

7. Other Submission Requirements:

Applications for grants under this program may be submitted electronically or in paper format by mail or hand delivery.

a. Electronic Submission of Applications.

We are participating as a partner in the Governmentwide Grants.gov Apply site. NACTEP, CFDA number 84.101A, is included in this project. We request your participation in Grants.gov.

If you choose to submit your application electronically, you must use the Governmentwide Grants.gov Apply site at www.Grants.gov. You may not email an electronic copy of a grant application to us.

A Grants.gov applicant must apply online using Workspace, a shared environment where members of a grant team may simultaneously access and edit different webforms within an application. An applicant can create an individual Workspace for each application notice and, thus, establish for that application a collaborative application package that allows more than one person in the applicant's organization to work concurrently on an application. The applicant can, thus, assign other users to participate in the Workspace. The system also enables the applicant to reuse forms from previous submissions; check them in and out and complete them; and submit its application package. For access to complete instructions on how to apply, refer to: www.grants.gov/web/grants/applicants/apply-for-grants.html.

You may access the electronic grant application for NACTEP at www.Grants.gov. You must search for the downloadable application package for this competition by the CFDA number. Do not include the CFDA number's alpha suffix in your search (e.g., search for 84.101, not 84.101A).

Please note the following:

• Your participation in Grants.gov is voluntary. When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at www.G5.gov. In addition, for specific guidance and procedures for submitting an application through Grants.gov, please refer to the Grants.gov website at www.grants.gov/web/grants/applicants/apply-for-grants.html.

• You will not receive additional point value because you submit your application in electronic format, nor will we penalize you if you submit your application in paper format.

• If you submit your application electronically, you must submit all documents electronically, including all information you typically provide on the following forms: the Application for Federal Assistance (SF 424), the Department of Education Supplemental Information for SF 424, Budget Information—Non-Construction Programs (ED 524), and all necessary assurances and certifications.

• If you submit your application electronically, you must upload any narrative sections and all other attachments to your application as files in a read-only, flattened Portable Document Format (PDF), meaning any fillable PDF documents must be saved as flattened, nonfillable files. Therefore, do not upload an interactive or fillable PDF file. If you upload a file type other than a read-only, flattened PDF (e.g., Word, Excel, WordPerfect, etc.) or submit a password-protected file, we will not review that material. Please note that this could result in your application not being considered for funding because the material in question—for example, the application narrative—is critical to a meaningful review of your proposal. For that reason it is important to allow yourself adequate time to upload all material as PDF files. The Department will not convert material from other formats to PDF. There is no need to password protect a file in order to meet the requirement to submit a read-only, flattened PDF. And, as noted above, the Department will not review password-protected files.

• After you electronically submit your application, you will receive from Grants.gov an automatic notification of receipt that contains a Grants.gov tracking number. This notification indicates receipt by Grants.gov only, not receipt by the Department. Grants.gov will also notify you automatically by email if your application met all Grants.gov validation requirements or if there were any errors (such as submission of your application by someone other than a registered Authorized Organization Representative, or inclusion of an attachment with a file name that contains special characters). You will be given an opportunity to correct any errors and resubmit, but you must still meet the deadline for submission of applications.

Once your application is successfully validated by Grants.gov, the Department will retrieve your application from Grants.gov and send you an email with a unique PR/Award number for your application.

These emails do not mean that your application is without any disqualifying errors. While your application may have been successfully validated by Grants.gov, it must also meet the Department's application requirements as specified in this notice and in the application instructions. Disqualifying errors could include, for instance, failure to upload attachments in a read-only, flattened PDF; failure to submit a required part of the application; or failure to meet applicant eligibility requirements. It is your responsibility to ensure that your submitted application has met all of the Department's requirements.

• We may request that you provide us original signatures on forms at a later date.

Application Deadline Date Extension in Case of Technical Issues with the Grants.gov System: If you are experiencing problems submitting your application through Grants.gov, please contact the Grants.gov Support Desk, toll-free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the persons listed under FOR FURTHER INFORMATION CONTACT and provide an explanation of the technical problem you experienced with Grants.gov, along with the Grants.gov Support Desk Case Number. We will accept your application if we can confirm that a technical problem occurred with the Grants.gov system and that the problem affected your ability to submit your application by 4:30:00 p.m., Washington, DC time, on the application deadline date. We will contact you after we determine whether your application will be accepted.

Note: The extensions to which we refer in this section apply only to the unavailability of, or technical problems with, the Grants.gov system. We will not grant you an extension if you failed to fully register to submit your application to Grants.gov before the application deadline date and time or if the technical problem you experienced is unrelated to the Grants.gov system.

b. Submission of Paper Applications by Mail.

If you submit your application in paper format by mail (through the U.S. Postal Service or a commercial carrier), you must mail the original and two copies of your application, on or before the application deadline date, to the Department at the following address: U.S. Department of Education, Application Control Center, Attention: (CFDA Number 84.101A), LBJ Basement Level 1, 400 Maryland Avenue SW, Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

Note: The U.S. Postal Service does not uniformly provide a dated postmark. Before relying on this method, you should check with your local post office.

We will not consider applications postmarked after the application deadline date.

c. Submission of Paper Applications by Hand Delivery.

If you submit your application in paper format by hand delivery, you (or a courier service) must deliver the original and two copies of your application by hand, on or before the application deadline date, to the Department at the following address: U.S. Department of Education, Application Control Center, Attention: (CFDA Number 84.101A), 550 12th Street SW, Room 7039, Potomac Center Plaza, Washington, DC 20202-4260.

The Application Control Center accepts hand deliveries daily between 8:00 a.m. and 4:30:00 p.m., Washington, DC time, except Saturdays, Sundays, and Federal holidays.

Note: Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this program are from the Notice of Final Requirements, and are as follows.

The maximum score for each criterion is indicated in parentheses.

(a) Need for project (Up to 5 points). In determining the need for the proposed project, we consider the extent of the need for the services to be provided or the activities to be carried out by the proposed project, as evidenced by data on such phenomena as local labor market demand or occupational trends, or from surveys, recommendations from accrediting agencies, or Tribal economic development plans.

(b) Quality of the project design (Up to 40 points). In determining the quality of the design of the proposed project, we consider the following factors:

(1) The extent to which the services to be provided by the proposed project will create opportunities for students to receive an industry-recognized credential; become employed in high skill, high-wage, and high-demand occupations; or both. (Up to 20 points).

(2) The extent to which the design of the proposed project is appropriate to, and will successfully address, the needs of the target population or other identified needs, as evidenced by the applicant's description of programs and activities that align with the target population's needs. (Up to 10 points).

(3) The extent to which the proposed project will establish linkages with or will be coordinated with similar or related efforts, and with community, State, or Federal resources, where such opportunities and resources exist. (Up to 5 points).

(4) The extent to which the training or professional development services to be provided by the proposed project would be of sufficient quality, intensity, and duration to lead to improvements in practice among the project staff and instructors, including the extent to which the proposed training and professional development plans address ways in which learning gaps will be addressed and how continuous review of performance will be conducted to identify training needs. (Up to 5 points).

(c) Adequacy of resources (Up to 20 points). In determining the adequacy of resources for the proposed project, we consider the following factors:

(1) The adequacy of support, including facilities, equipment, supplies, and other resources, from the applicant organization(s) and the Tribal entity or entities to be served. (Up to 5 points).

(2) The extent to which the budget is adequate and costs are reasonable in relation to the objectives of the proposed project. (Up to 5 points).

(3) The relevance and demonstrated commitment (e.g., through written CTE agreements, memoranda of understanding, letters of support and commitment, or commitments to employ project participants, as appropriate) of the applicant, members of the consortium, local employers, or Tribal entities to be served by the project. (Up to 5 points).

(4) The extent to which the project will use instructors who are certified to teach in the field in which they will provide instruction. (Up to 5 points).

(d) Quality of the management plan (Up to 25 points). In determining the quality of the management plan for the proposed project, we consider the following factors:

(1) The adequacy of the management plan to achieve the objectives of the proposed project on time and within budget, including clearly defined responsibilities, timelines, and the milestones and performance standards for accomplishing project tasks. (Up to 10 points).

(2) The extent to which the applicant encourages applications for employment from persons who are members of groups that have traditionally been underrepresented based on race, color, national origin, gender, age, or disability. (Up to 5 points).

(3) The extent to which the time commitments of the project director and other key project personnel are appropriate and adequate to meet the objectives of the proposed project. (Up to 5 points).

(4) The qualifications, including relevant training, expertise, and experience, of the project director, key personnel, and project consultants. (Up to 5 points).

(e) Quality of the project evaluation (Up to 10 points). In determining the quality of the evaluation, we consider the following factors:

(1) The extent to which the methods of evaluation proposed by the grantee are thorough, feasible, and include the use of objective performance measures that are clearly related to the intended outcomes of the project and the Government Performance and Results Act of 1993 (GPRA) performance measures. (Up to 5 points).

(2) The extent to which the methods of evaluation will provide performance feedback and continuous improvement toward achieving intended outcomes. (Up to 5 points).

2. Additional Selection Factors: In accordance with the requirement in section 116(e) of the Act, we have included the following additional selection factors and will award additional points to any application addressing the following factors, as indicated. These additional factors from the Notice of Final Requirements are as follows.

We will award—

(a) Up to 5 additional points to applications that propose exemplary approaches that involve, coordinate with, or encourage Tribal economic development plans; and

(b) Five points to applications from Tribally controlled colleges or universities that—

(1) Are accredited or are candidates for accreditation by a nationally recognized accreditation organization as an institution of postsecondary CTE; or

(2) Operate CTE programs that are accredited or are candidates for accreditation by a nationally recognized accreditation organization and issue certificates for completion of CTE programs (20 U.S.C. 2326(e)).

3. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances including those applicable to Federal civil rights laws that prohibit discrimination in programs or activities receiving Federal financial assistance from the Department of Education (34 CFR 100.4, 104.5, 106.4, 108.8, and 110.23).

4. Risk Assessment and Special Conditions: Consistent with 2 CFR 200.205, before awarding grants under this competition, the Department conducts a review of the risks posed by applicants. Under 2 CFR 3474.10, the Secretary may impose special conditions and, in appropriate circumstances, high-risk conditions on a grant if the applicant or grantee is not financially stable; has a history of unsatisfactory performance; has a financial or other management system that does not meet the standards in 2 CFR part 200, subpart D; has not fulfilled the conditions of a prior grant; or is otherwise not responsible.

5. Integrity and Performance System: If you are selected under this competition to receive an award that over the course of the project period may exceed the simplified acquisition threshold (currently $150,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through SAM. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirement: Unless an exception applies, if you are awarded a grant under this competition, you will be required to openly license to the public grant deliverables created in whole, or in part, with Department grant funds. When the deliverable consists of modifications to pre-existing works, the license shall extend only to those modifications that can be separately identified and only to the extent that open licensing is permitted under the terms of any licenses or other legal restrictions on the use of pre-existing works. Please refer to the Applicable Regulations section to see if an exception under 2 CFR 3474 applies for this program. For additional information on the open licensing requirements please refer to 2 CFR 3474.20(c).

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: Pursuant to GPRA, the Department has established the following performance measures that it will use to evaluate the overall effectiveness of the grantee's project, as well as NACTEP as a whole:

(a) At the secondary level: An increase in the percentage of CTE students who—

(1) Attain academic proficiency, as demonstrated by meeting academic content standards and student academic achievement standards that meet challenging State-defined academic standards for reading/language arts and mathematics;

(2) Attain career and technical skill proficiencies, including student achievement on technical assessments that are aligned with industry-recognized standards;

(3) Attain a secondary school diploma;

(4) If a credential, certificate, or degree is offered by the State in which the project operates, in conjunction with a secondary school diploma, attain a proficiency credential, certificate, or degree in conjunction with a secondary school diploma; or

(5) Are placed in—

(i) Postsecondary education or advanced training;

(ii) Military service; or

(iii) Employment.

(b) At the postsecondary level: An increase in the percentage of CTE students who—

(1) Attain challenging career and technical skill proficiencies, including student achievement on technical assessments that are aligned with industry-recognized standards;

(2) Attain an industry-recognized credential, a certificate, or a degree;

(3) Are retained in postsecondary education or transfer to a baccalaureate degree program;

(4) Are placed in—

(i) Military service; or

(ii) Apprenticeship programs; or

(5) Are placed or have been retained in employment, including in high-skill, high-wage, or high-demand occupations or professions.

(c) At the adult education level: An increase in the percentage of participating adult career and technical education students who—-

(1) Enroll in a postsecondary education or training program;

(2) Attain career and technical education skill proficiencies aligned with industry-recognized standards;

(3) Receive industry-recognized credentials or certificates; or

(4) Are placed in a job, upgraded in a job, or retain employment.

Note: All grantees will be expected to submit an annual performance report addressing these performance measures, to the extent feasible and to the extent that they apply to each grantee's NACTEP project.

6. Continuation Awards: In making a continuation award under 34 CFR 75.253, the Secretary considers, among other things: whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the application package in an accessible format (e.g., braille, large print, audiotape, or compact disc) on request to the program contact persons listed under FOR FURTHER INFORMATION CONTACT. If you use a TDD or TTY, call the FRS, toll-free, at 1-800-877-8339.

Electronic Access to This Document: The official version of this document is the document published in the Federal Register. Free internet access to the official edition of the Federal Register and the Code of Federal Regulations is available via the Federal Digital System at: www.gpo.gov/fdsys. At this site you can view this document, as well as all other documents of this Department published in the Federal Register, in text or PDF. To use PDF you must have Adobe Acrobat Reader, which is available free at the site.

You may also access documents of the Department published in the Federal Register by using the article search feature at: www.federalregister.gov. Specifically, through the advanced search feature at this site, you can limit your search to documents published by the Department.

Dated: January 31, 2018.
Michael E. Wooten,
Acting Assistant Secretary for Career, Technical, and Adult Education.

[FR Doc. 2018-02246 Filed 2-2-18; 8:45 am]

BILLING CODE 4000-01-P